DEPARTMENT OF HEALTH AND HUMAN SERVICES

Centers for Disease Control and Prevention

Standard Test Procedures Approval Process for Respirators To Be Used in Wildland Fire-Fighting Operations; Standard Test Procedures for Composite Multi-Gas and Particulate Protection and Approval Process for Respirators To Be Used in Wildland Fire-Fighting Operations

AGENCY: The National Institute for Occupational Safety and Health (NIOSH) of the Centers for Disease Control and Prevention (CDC), Department of Health and Human Services (HHS).

ACTION: Respirators with Composite Protection for Wildland Fire-Fighting Operations; Notice of Testing and Evaluation.

SUMMARY: The Centers for Disease Control and Prevention's (CDC) National Institute for Occupational Safety and Health (NIOSH) intends to employ existing provisions in 42 CFR Part 84 to test and approve air-purifying respirators (APRs) and powered air-purifying respirators (PAPRs) that provide composite multi-gas and particulate protection for inhalation hazards associated with wildland fire-fighting. NIOSH will evaluate candidate respirators for inhalation protections tailored against exposures identified in the National Fire Protection Association (NFPA) 1984 standard on respirators for wildland fire-fighting (WFF) operations. Under 42 CFR Part 84 requirements, NIOSH approval is necessary for the complete evaluation of WFF respirators pursuant to NFPA 1984 (2011).

SUPPLEMENTARY INFORMATION:

Background

Wildland firefighting presents many hazards to firefighters, including inhalation exposure to smoke and other combustion (fire) byproducts. Studies indicate that most wildland firefighters work in smoke levels that are not expected to cause health problems or exceed legal and recommended limits.¹ However, wildland firefighters occasionally experience smoke levels that exceed guidelines recommended by occupational health experts, and are higher than Federal occupational safety and health regulations allow. Because manufacturers have not yet developed respiratory protection for this occupational setting, firefighters battling wild fires often resort to using devices not approved by NIOSH, or NIOSH-approved filtering facepiece respirators which are not designed for this use, or no respiratory protection at all. Without a NIOSH-approved respirator designed to protect against the combination of particulates, gases and vapors generally produced by wildfires, firefighters cannot be sure that they are receiving adequate or any protection at all. Filtering facepiece respirators approved under the current NIOSH standards provide no protection against fire gases or vapors and may structurally fail at the elevated temperatures encountered in wildland firefighting environments.

¹ See: Reinhardt,TE, Ottmar, RD. 2000. Smoke exposure at western wildfires. Res. Pap. PNW-RP-525. Portland, OR: U.S. Department of Agriculture, Forest Service, Pacific Northwest Research Station.

NIOSH is now accepting applications for respiratory protective devices designed for the inhalation hazards of this occupational setting.

On July 10, 2012 NIOSH issued a letter to manufacturers ² announcing that NIOSH was prepared to evaluate respirators used for protection against the inhalation hazards identified in the National Fire Protection Association (NFPA) standard 1984 (2011 Edition).³ This new evaluation will be conducted in accordance with a Memorandum of Understanding between the NIOSH National Personal Protective Technology Laboratory (NPPTL) and the Safety Equipment Institute (SEI), a non-governmental non-profit organization that administers third-party certification programs to certify a broad range of safety and protective products. Under this MOU, NIOSH/NPPTL and SEI will coordinate their certification programs. SEI will evaluate candidate respirators for compliance with NFPA 1984-2011, Standard on Respirators for Wildland Fire-Fighting Operations, which includes Tentative Interim Amendment (TIA) No. 11-1.

Under NFPA 1984, the wildland firefighter respirator must be approved by NIOSH as an APR or a PAPR. NIOSH has developed test procedures for a composite particulate and multi-gas protection for APR and PAPR approvals in accordance with 42 CFR 84.60(b); 84.63(a), (b), (c), and (d); 84.110(c); and 84.190(b). The standard test procedures are available upon request and will be available on the NIOSH NPPTL Web site at: http://www.cdc.gov/niosh/npptl/stps/APresp.html.

FOR FURTHER INFORMATION CONTACT: Tim Rehak, NIOSH National Personal Protective Technology Laboratory (NPPTL), P.O. Box 18070, 626 Cochrans Mill Road, Pittsburgh, PA 15236; (412) 386-5200 (this is not a toll-free number).

Dated: November 8, 2012.
John Howard,
Director, National Institute for Occupational Safety and Health, Centers for Disease Control and Prevention.

[FR Doc. 2012-27898 Filed 11-15-12; 8:45 am]

BILLING CODE 4163-19-P